DEPARTMENT OF VETERANS AFFAIRS

[OMB Control No. 2900-NEW]

Proposed Information Collection (VA National Veterans Sports Programs and Special Event Surveys Data Collection) Activity: Comment Request

AGENCY: Office of Public & Intergovernmental Affairs, Department of Veterans Affairs.

ACTION: Notice.

SUMMARY: The Office of Public Affairs (OPA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the National Veterans Sports Programs and Special Event Surveys Data Collection is designed to allow program improvement and measure the tangible, quantifiable benefits of the events, using event applications. Information collected is used for the planning, distribution and utilization of resources and to allocate clinical and administrative support to patient treatment services. Data will allow the program office to ensure that the target audience is being reached, effective therapeutic treatments are being offered, and tangible, quantitative results are being measured and tracked for continual improvement.

DATES: Written comments and recommendations on the proposed collection of information should be received on or before February 18, 2014.

ADDRESSES: Submit written comments on the collection of information through Federal Docket Management System (FDMS) at www.Regulations.gov; or to Crystal Rennie, Office of Information & Technology (005R1B), Department of Veterans Affairs, 810 Vermont Avenue NW., Washington, DC 20420; or email: crystal.rennie@va.gov. Please refer to “OMB Control No. 2900-NEW (VA National Veterans Sports Programs and Special Event Surveys)” in any correspondence. During the comment period, comments may be viewed online through the FDMS.

FOR FURTHER INFORMATION CONTACT: Crystal Rennie at (202) 632-7492.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: VA National Veterans Sports Programs and Special Event Surveys.

OMB Control Number: 2900-NEW (VA National Veterans Sports Programs and Special Event Surveys).

Type of Review: New collection.

Abstract: The Department of Veterans Affairs (VA) administers National Rehabilitation Special Events for Veterans who are receiving care at VA medical facilities. Each event promotes the healing of body and spirit by motivating Veterans to reach their full potential, improve their independence, and achieve a healthier lifestyle and higher quality of life. Surveys are designed to allow program improvement and measure the tangible, quantifiable benefits of the events using event applications. Information collection is used for the planning, distribution and utilization of resources and to allocate clinical and administrative support to patient treatment services.

Affected Public: Individuals or households.

Estimated Annual Burden: 2782 burden hours.

Estimated Average Burden per Respondent: 2.552 minutes.

(a) National Disabled Veterans Winter Sports Clinic, VA Form 10107 (2.5 min.)

(b) National Veterans Creative Arts Festival, VA Form 10108 (2.25 min.)

(c) National Veterans Golden Age Games, VA Form 10109 (2.5 min.)

(d) National Veterans Summer Sports Clinic, VA Form 10110 (2.25 min.)

(e) National Veterans TEE Tournament, VA Form 10111 (2.75 min.)

(f) National Veterans Wheelchair Games, VA Form 10112 (2.75 min.)

Frequency of Response: 28.75 (annual).

Estimated Number of Respondents: 2275.

Dated: December 17, 2013.
By direction of the Secretary.
Crystal Rennie,
VA Clearance Officer, Department of Veterans Affairs.

[FR Doc. 2013-30306 Filed 12-19-13; 8:45 am]

BILLING CODE 8320-01-P